DEPARTMENT OF HEALTH AND HUMAN SERVICES

Administration for Children and Families

Tribal Consultation Meetings

AGENCY: Office of Head Start, Administration for Children and Families, HHS.

ACTION: Notice of meetings.

SUMMARY: Pursuant to the Improving Head Start for School Readiness Act of 2007, notice is hereby given of six 1-day Tribal Consultation Sessions to be held between the Department of Health and Human Services (HHS), Administration for Children and Families (ACF), Office of Head Start (OHS) leadership and the leadership of tribal governments operating Head Start (including Early Head Start) programs. The purpose of these consultation sessions is to discuss ways to better meet the needs of American Indian and Alaska Native children and their families, taking into consideration funding allocations, distribution formulas, and other issues affecting the delivery of Head Start services in their geographic locations.

DATES:

May 2, 2018, from 1:00 p.m. to 3:00 p.m.

May 21, 2018, from 1:00 p.m. to 3:00 p.m.

June 13, 2018, from 1:00 p.m. to 3:00 p.m.

August 6, 2018, from 1:00 p.m. to 3:00 p.m.

October 2018, Date and time to be determined

November 2018, Date and time to be determined

ADDRESSES:

• May 2, 2018—Grand Casino Hinckley, 777 Lady Luck Dr., Hinckley, MN 55037

• May 21, 2018—The University Union, Union WELL Inc., Sacramento State, 6000 J Street, Sacramento, CA 95819-6017

• June 13, 2018—Sheraton Music City, 777 Mcgavock Pike, Nashville, TN

• August 6, 2018—Northern Quest Hotel and Casino, 100 N Hayford Rd., Airway Heights, WA 99001 (near Spokane airport)

• October 2018—Anchorage, AK (Location to be provided at a later date)

• November 2018—Albuquerque, NM (Location to be provided at a later date)

FOR FURTHER INFORMATION CONTACT: Angie Godfrey, Regional Program Manager, Region XI/AIAN, Office of Head Start, email Angie.Godfrey@acf.hhs.gov, or phone (202) 205-5811. Additional information and online meeting registration will be available at http://eclkc.ohs.acf.hhs.gov/hslc/hs/calendar/tc2018.

SUPPLEMENTARY INFORMATION: In accordance to the Improving Head Start for School Readiness Act of 2007, Public Law 110-134 [42 U.S.C. 9835, Section 640(l)(4)], ACF announces OHS tribal consultations for leaders of tribal governments operating Head Start and Early Head Start programs. The agenda for the scheduled OHS tribal consultations in Hinckley, Minnesota; Sacramento, California; Nashville, Tennessee; Spokane, Washington; Anchorage, Alaska; and Albuquerque, New Mexico will be organized around the statutory purposes of Head Start tribal consultations related to meeting the needs of American Indian and Alaska Native children and families, taking into consideration funding allocations, distribution formulas, and other issues affecting the delivery of Head Start services in their geographic locations. In addition, OHS will share actions taken and in progress to address the issues and concerns raised in the 2017 OHS Tribal Consultations.

The consultation sessions will be conducted with elected or appointed leaders of tribal governments and their designated representatives. Designees must have a letter from the tribal government authorizing them to represent the tribe. Tribal governments must submit the designee letter at least 3 days in advance of the consultation sessions to Angie Godfrey at Angie.Godfrey@acf.hhs.gov. Other representatives of tribal organizations and Native non-profit organizations are welcome to attend as observers.

A detailed report of each consultation session will be prepared and made available within 45 days of the consultation sessions to all tribal governments receiving funds for Head Start and Early Head Start programs. Tribes wishing to submit written testimony for the report should send testimony to Angie Godfrey at Angie.Godfrey@acf.hhs.gov either prior to each consultation session or within 30 days after each meeting. OHS will summarize oral testimony and comments from the consultation sessions in each report without attribution, along with topics of concern and recommendations.

Dated: March 20, 2018.
Ann Linehan,
Acting Director, Office of Head Start.

[FR Doc. 2018-06891 Filed 4-3-18; 8:45 am]

BILLING CODE 4184-40-P